ENVIRONMENTAL PROTECTION AGENCY

[EPA-HQ-OPPT-2013-0677; FRL-9907-68]

Receipt of Test Data Under the Toxic Substances Control Act

AGENCY: Environmental Protection Agency (EPA).

ACTION: Notice.

SUMMARY: EPA is announcing its receipt of test data submitted pursuant to a test rule issued by EPA under the Toxic Substances Control Act (TSCA). As required by TSCA, this document identifies each chemical substance and/or mixture for which test data have been received; the uses or intended uses of such chemical substance and/or mixture; and describes the nature of the test data received. Each chemical substance and/or mixture related to this announcement is identified in Unit I. under SUPPLEMENTARY INFORMATION.

FOR FURTHER INFORMATION CONTACT:

For technical information contact: Kathy Calvo, Chemical Control Division (7405M), Office of Pollution Prevention and Toxics, Environmental Protection Agency, 1200 Pennsylvania Ave. NW., Washington, DC 20460-0001; telephone number: (202) 564-8089; email address: calvo.kathy@epa.gov.

For general information contact: The TSCA-Hotline, ABVI-Goodwill, 422 South Clinton Ave., Rochester, NY 14620; telephone number: (202) 554-1404; email address: TSCA-Hotline@epa.gov.

SUPPLEMENTARY INFORMATION:

I. Chemical Substances and/or Mixtures

Information about the following chemical substance and/or mixture is provided in Unit IV.:

2-Oxiranemethanamine, N-[4-(2-oxiranylmethoxy) phenyl]-N-(2-oxiranylmethyl)- (CAS No. 5026-74-4)

II. Authority

Section 4(d) of TSCA (15 U.S.C. 2603(d)) requires EPA to publish a notice in the Federal Register reporting the receipt of test data submitted pursuant to test rules promulgated under TSCA section 4 (15 U.S.C. 2603).

III. Docket Information

A docket, identified by the docket identification (ID) number EPA-HQ-OPPT-2013-0677, has been established for this Federal Register document that announces the receipt of data. The test data received have been added to the docket for the TSCA section 4 test rule that required the test data. Use the document ID number provided in Unit III. to access the test data in the docket for the related TSCA section 4 test rule.

The dockets are available electronically at http://www.regulations.gov or in person at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

IV. Test Data Received

This unit contains the information required by TSCA section 4(d) for the test data received by EPA.

2-Oxiranemethanamine, N-[4-(2-oxiranylmethoxy) phenyl]-N-(2-oxiranylmethyl)- (CAS No. 5026-74-4)

1. Chemical Use(s): Resin and synthetic rubber manufacturing; aerospace and parts manufacturing.

2. Applicable Test Rule: Testing of Certain High Production Volume Chemicals; Third Group of Chemicals, 40 CFR 799.5089.

3. Test Data Received: The following listing describes the nature of the test data received. The test data have been added to the docket for the applicable TSCA section 4 test rule and can be found by referencing the document ID numbers provided. EPA reviews of test data will be added to the same docket upon completion.

a. Physical/Chemical Properties. Validation of an analytical method (of physical/chemical properties); melting point; boiling point; density; vapor pressure; water solubility; flash point; auto flammability; pH; oxidizing properties; absorption coefficient; dissociation constant; and viscosity . The document ID number assigned to this data is EPA-HQ-OPPT-2009-0112-0233.

b. Environmental Fate. Biodegradation in water screening test (Ready Biodegradability (Organization for Economic Cooperation and Development (OECD 301 B)). The document ID number assigned to this data is EPA-HQ-OPPT-2009-0112-0233.

c. Ecotoxicity. Toxicity to algae and cyanobacteria test (Fresh Water Algal Growth Inhibition Test (OECD 201)). The document ID number assigned to this data is EPA-HQ-OPPT-2009-0112-0233.

d. Ecotoxicity. Long term toxicity to aquatic invertebrates (Daphnia magna, Reproduction Test (OECD 211)). The document ID number assigned to this data is EPA-HQ-OPPT-2009-0112-0233.

e. Ecotoxicity. Short term toxicity to fish (96-hour Acute Toxicity Study in Carp (OECD 203)). The document ID number assigned to this data is EPA-HQ-OPPT-2009-0112-0233.

f. Ecotoxicity. Toxicity to microorganisms (Pseudomonas Cell Multiplication Inhibition Test). The document ID number assigned to this data is EPA-HQ-OPPT-2009-0112-0233.

List of Subjects

Environmental protection, Hazardous substances, Reporting and Recordkeeping requirements.

Dated: March 26, 2014.
Maria J. Doa,
Director, Chemical Control Division, Office of Pollution Prevention and Toxics.

[FR Doc. 2014-07384 Filed 4-1-14; 8:45 am]

BILLING CODE 6560-50-P